DEPARTMENT OF THE INTERIOR

Minerals Management Service

Environmental Documents Prepared for Proposed Mineral Exploration on the Alaska Outer Continental Shelf

AGENCY: Minerals Management Service (MMS), Interior.

ACTION: Notice of the availability of Environmental Assessment (EA) and Finding of No Significant Impact (FONSI).

SUMMARY: The Minerals Management Service (MMS), in accordance with Federal regulations that implement the National Environmental Policy Act (NEPA), announces the availability of two Environmental Assessments (EAs) and associated Findings of No Significant Impacts (FONSIs) prepared by MMS for oil and gas exploration activities proposed on the Alaska Outer Continental Shelf (OCS).

FOR FURTHER INFORMATION CONTACT: Minerals Management Service, Alaska OCS Region, 3801 Centerpoint Drive, Suite 500, Anchorage, Alaska 99503-5823; or AKWebmaster@mms.gov; or 1-800-764-2627. You may view the EAs on the MMS Web site at http://www.mms.gov/alaska.

SUPPLEMENTARY INFORMATION: The MMS prepares EAs for proposals for exploration drilling to evaluate oil and gas resource potential on the Alaska OCS. The EAs examine the potential environmental effects of activities described in the proposals and present MMS conclusions regarding the level and significance of those effects. The EAs are used as the basis for determining whether or not approvals of the proposals would significantly affect the quality of the human environment in the sense of NEPA Section 102(2)(C). A FONSI is prepared in those instances where MMS finds that approval will not result in significant effects on the quality of the human environment.

Document Number: OCS EIS/EA MMS 2009-052. FONSI Date: October 15, 2009. The EA evaluates the potential for significant impacts of the specific operations proposed in the Exploration Plan (EP), dated June 2009, submitted to MMS by Shell Offshore Inc. The EP is for exploratory drilling operations that would be conducted in accordance with the OCS Lands Act Amendments and MMS operating regulations (30 CFR 250 and 30 CFR 254). Shell proposes to drill two wells located on the company's leases in the Camden Bay area of the Alaskan Beaufort Sea to evaluate the Sivulliq and Torpedo prospects. The proposed drilling locations are Lease OCS-Y-1805 (Flaxman Island block 6658) and Lease OCS-Y-1941 (Flaxman Island block 6610). Drilling operations would be conducted from the drill ship M/V Frontier Discoverer during the July-October 2010 open-water period. Shell's proposal includes suspending all operations and removal of the drill ship and support vessels from the area beginning August 25 until completion of fall subsistence bowhead whaling by the Native Villages of Kaktovik and Nuiqsut, Alaska. Information about the methods by which the exploration activities would be conducted is detailed in the EP and the associated Environmental Impact Analysis and Oil Discharge Prevention and Contingency Plan.

OCS EIS/EA MMS 2009-061. FONSI Date: December 7, 2009. The EA evaluates the potential for significant impacts of the specific drilling operations proposed in Shell Gulf of Mexico Inc.'s Exploration Plan (EP), dated July 2009; deemed submitted October 20, 2009. The EP is for exploratory drilling operations that would be conducted in accordance with the OCS Lands Act Amendments and MMS operating regulations (30 CFR 250 and 30 CFR 254). Shell proposes to drill up to three wells at five potential drill sites on the company's leases in the Alaskan Chukchi Sea to evaluate the Burger, Crackerjack, and SW Shoebill prospects. The potential drill sites are on Lease OCS-Y-2280 (Posey block 6764), Lease OCS-Y-2267 (Posey block 6714), Lease OCS-Y-2321 (Posey block 6912), Lease OCS-Y-2111 (Karo block 6864), and Lease OCS-Y-2142 (Karo block 7007). Drilling operations would be conducted from the drill ship M/V Frontier Discoverer during the July-October 2010 open-water period. Information about the methods by which the exploration activities would be conducted is detailed in the EP and in the associated Environmental Impact Analysis and Oil Discharge Prevention and Contingency Plan.

Dated: January 26, 2010.
Jeffery Loman,
Acting Regional Director, Alaska OCS Region, Minerals Management Service.

[FR Doc. 2010-3291 Filed 2-18-10; 8:45 am]

BILLING CODE 4310-MR-P